DEPARTMENT OF ENERGY

Federal Energy Regulatory Commission

[Docket No. RP00-475-000]

Trunkline Gas Company; Notice of Technical Conference

September 17, 2001.

On August 15, 2000, Trunkline Gas Company (Trunkline) filed in Docket No. RP00-475-000 to comply with Order No. 637.

Take notice that the technical conference to discuss the various issues raised by Trunkline's filing that was scheduled for September 19, 2001, is canceled. The technical conference is rescheduled to be held on Wednesday, October 3, 2001, at 10 a.m., in a room to be designated at the offices of the Federal Energy Regulatory Commission, 888 First Street, NE., Washington, DC 20426. Persons protesting any aspects of Trunkline's filing should be prepared to defend their positions as well as discuss alternatives.

The issues to be discussed will include but are not limited to

Segmentation

Flexible Point Rights

Discount Provisions

Imbalance Services

Penalties

Operational Flow Orders

The above schedule may be changed as circumstances warrant.

David P. Boergers,
Secretary.

[FR Doc. 01-23543 Filed 9-20-01; 8:45 am]

BILLING CODE 6717-01-P